FEDERAL COMMUNICATIONS COMMISSION

47 CFR Part 73

[DA 07-37; MB Docket No. 05-238; RM-11260]

Radio Broadcasting Services; Columbus, IN

AGENCY: Federal Communications Commission.

ACTION: Final rule.

SUMMARY: The Audio Division grants a Petition for Rule Making filed by Columbus Community Radio Corporation, licensee of Station WHUM-LP, Channel 253L1, Columbus, Indiana, requesting the allotment of Channel 228A at Columbus, Indiana, as its reservation for noncommercial educational NCE use. The reference coordinates for Channel *228A at Columbus, Indiana are 39-09-06 NL and 85-52-09 WL. This allotment requires a site restriction of 7.9 kilometers (4.9 miles) southeast of Columbus.

DATES: Effective February 26, 2007.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 05-238, adopted January 10, 2007, and released January 12, 2007. The Notice of Proposed Rule Making proposed the allotment of Channel 228A at Columbus, Indiana and its reservation for NCE use. See 70 FR 48357, published August 17, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20554, telephone 1-800-378-3160 or http://www.BCPIWEB.com. The Commission will send a copy of the Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Indiana, is amended by adding Channel *228A at Columbus.

Federal Communications Commission.
John A. Karousos,
Assistant Chief, Audio Division, Media Bureau.

[FR Doc. E7-1524 Filed 1-30-07; 8:45 am]

BILLING CODE 6712-01-P